DEPARTMENT OF HOMELAND SECURITY

Coast Guard

33 CFR Part 100

[Docket No. USCG-2022-0241]

Special Local Regulations; Marine Events Within the Fifth Coast Guard District

AGENCY: Coast Guard, DHS.

ACTION: Notification of enforcement of regulation.

SUMMARY: The Coast Guard will enforce the special local regulation for the Ocean City Air Show on September 18, 2022, from 12 p.m. through 3 p.m. to provide for the safety of life on navigable waterways during this event. Our regulation for marine events within the Fifth Coast Guard District identifies the regulated area for this event as Ocean City, NJ. During the enforcement period, the operator of any vessel in the regulated area must comply with directions from the Patrol Commander or any Official Patrol displaying a Coast Guard ensign.

DATES: The regulations in 33 CFR 100.501 will be enforced for the Ocean City Air Show listed in table 1 to paragraph (i)(1) to § 100.501 from 12 p.m. through 3 p.m. on September 18, 2022.

FOR FURTHER INFORMATION CONTACT: If you have questions about this notice of enforcement, you may call or email Petty Officer Jennifer Padilla, U.S. Coast Guard, Sector Delaware Bay, Waterways Management Division, telephone 215-271-4814, email Jennifer.l.Padilla@uscg.mil.

SUPPLEMENTARY INFORMATION: The Coast Guard will enforce special local regulations in 33 CFR 100.501 for the Ocean City Airshow regulated area from 12 p.m. through 3 p.m. on September 18, 2022. These actions are being taken to provide for the safety of life on navigable waterways during this event. Our regulation for marine events within the Fifth Coast Guard District, table to § 100.501, specifies the location of the regulated area as all waters of the North Atlantic Ocean, adjacent to Ocean City, New Jersey, bounded by a line connecting the following points: latitude 39°15′57″N, longitude 074°35′09″W, thence northeast to latitude 39°16′34″ N, longitude 074°33′54″W, thence southeast to latitude 39°16′17″N, longitude 074°33′29″W, thence southwest to latitude 39°15′40″N, longitude 074°34′46″W, thence northwest to point of origin, near Ocean City, NJ.

During the enforcement periods, as reflected in § 100.501(g), if you are the operator of a vessel in the regulated area you must comply with directions from the Patrol Commander or any Official Patrol displaying a Coast Guard ensign.

In addition to this notice of enforcement in the Federal Register, the Coast Guard will provide notification of the enforcement periods via broadcast notice to mariners.

Dated: August 9, 2022.
Jonathan D. Theel,
Captain, U.S. Coast Guard, Captain of the Port, Delaware Bay.

[FR Doc. 2022-17463 Filed 8-12-22; 8:45 am]

BILLING CODE 9110-04-P